DEPARTMENT OF COMMERCE

International Trade Administration

Subsea & Onshore Technology Trade Mission to Rio de Janeiro, Brazil October 19-21, 2016; Cancellation

AGENCY: International Trade Administration, U.S. Department of Commerce.

ACTION: Notice; cancellation.

SUMMARY: The United States Department of Commerce, International Trade Administration, published a notice in the Federal Register at 80 FR 76657 (December 10, 2015), regarding the Subsea & Onshore Technology Trade Mission to Rio de Janeiro, Brazil October 19-21, 2016. This mission has been cancelled due to scheduling difficulties.

SUPPLEMENTARY INFORMATION: Trade Mission Cancellation.

Background

Interested U.S. companies and trade associations/organizations providing oil and gas equipment, technology, or services as well as U.S. companies seeking to enter the Brazilian market for the first time are being encouraged to contact us for information on the Gold Key Service (GKS) — through the U.S. Department of Commerce, U.S. Commercial Service.

CONTACT INFORMATION: Ethel M. Azueta Glen, International Trade Specialist, Trade Missions, U.S. Department of Commerce, Washington, DC 20230, Tel: 202-482-5388, Fax: 202-482-9000, Ethel.Glen@trade.gov.

Frank Spector,
Director, Trade Missions Program.

[FR Doc. 2016-20615 Filed 8-26-16; 8:45 am]

BILLING CODE 3510-DR-P